DEPARTMENT OF THE INTERIOR

Bureau of Land Management

[WY-100-04-1610-DR]

Notice of Availability of the Record of Decision for Snake River Resource Management Plan Final Environmental Impact Statement

AGENCY: Bureau of Land Management, Interior.

ACTION: Notice of availability of the Record of Decision (ROD) for the Snake River Resource Management Plan (RMP), Teton County, Wyoming.

SUMMARY: In accordance with the National Environmental Policy Act of 1969, and the Federal Land Policy and Management Act of 1976, the Bureau of Land Management (BLM) announces the availability of the ROD for the Snake River RMP and Final Environmental Impact Statement (FEIS).

The ROD and FEIS present the RMP for the Snake River planning area, containing approximately 1000 acres of public land and 15,123 acres of Federal mineral estate in Teton County, northwestern Wyoming. The completed RMP fulfills the obligations set forth by the Federal Land Policy and Management Act (FLPMA), the National Environmental Policy Act (NEPA), and Federal regulations. The FEIS was available for protest from October 3, 2003, through November 3, 2003. All protests and comments received were considered during the preparation of the ROD.

ADDRESSES: The document will be available electronically on the following Web site: http://www.wy.blm.gov/srrmp/. Copies of the ROD are available for public inspection at the following BLM office locations:

• Bureau of Land Management, Wyoming State Office, 5353 Yellowstone Road, Cheyenne, Wyoming, 82009.

• Bureau of Land Management, Pinedale Field Office, 432 East Mill Street, Pinedale, Wyoming, 82941.

FOR FURTHER INFORMATION: Contact Ms. Kellie Roadifer, Project Manager, P.O. Box 768, Pinedale, WY 82941, or electronically kellie_roadifer@blm.gov. Ms. Roadifer may also be reached at 307-367-5309.

SUPPLEMENTARY INFORMATION: A copy of the ROD has been sent to affected Federal, State, and local government agencies and interested parties. The Snake River planning area includes almost 1,000 acres of public lands administered by the BLM Pinedale Field Office and approximately 15,123 acres of Federal mineral estate near the Snake River, Teton County, Wyoming.

The Snake River RMP ROD is in conformance with the BLM's National Fire Plan. The National Energy Policy was also considered. The potential for energy development in the Snake River planning area is very low, to the extent that energy development in support of the National Energy Policy is not practical.

The RMP provides for transfer and management of the parcels to another public land-managing agency or entity. The actual land surface could be retained by BLM or transferred, as long as certain stipulations for its future management are met.

The transfer of lands or resources management will take place within 15 years. BLM will retain all mineral rights. It is the goal of the RMP to ensure the entities acquiring these parcels or taking over management responsibility are obligated under the terms of the transaction to apply the management prescriptions described.

Dated: January 28, 2004.
Alan L. Kesterke,
Associate State Director.

Editorial Note: This document was received at the Office of the Federal Register on April 21, 2004.

[FR Doc. 04-9365 Filed 5-6-04; 8:45 am]

BILLING CODE 4310-22-P